FEDERAL COMMUNICATIONS COMMISSION

Radio Broadcasting Services; AM or FM Proposals To Change the Community of License

AGENCY: Federal Communications Commission.

ACTION: Notice.

SUMMARY: The following applicants filed AM or FM proposals to change the community of license: ALEX MEDIA, INC., Station NEW, Facility ID 189554, BNPH-20110602AAW, From BLANCA, CO, To AVONDALE, CO; BLACK CROW RADIO, LLC, DEBTOR-IN-POSSESSION, Station WKRO-FM, Facility ID 5464, BPH-20110609ADM, From EDGEWATER, FL, To PORT ORANGE, FL; ETHER MINING CORPORATION, Station KPSF, Facility ID 161373, BMP-20110519AAA, From DESERT HOT SPRINGS, CA, To CATHEDRAL CITY, CA; LOVCOM, INC., Station NEW, Facility ID 189506, BNPH-20110603ABR, From TEN SLEEP, WY, To DAYTON, WY; PENFOLD COMMUNICATIONS, INC., Station WTPG, Facility ID 122008, BMPED-20110608AAR, From WESTON, OH, To WHITEHOUSE, OH; SPANISH PEAKS BROADCASTING, INC, Station NEW, Facility ID 171098, BNPH-20070411ABF, From CHARLO, MT, To WOODS BAY, MT.

DATES: The agency must receive comments on or before October 3, 2011.

ADDRESSES: Federal Communications Commission, 445 12th Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC, 20554, telephone 1-800-378-3160 or http://www.BCPIWEB.com.

Federal Communications Commission.
James D. Bradshaw,
Deputy Chief, Audio Division, Media Bureau.

[FR Doc. 2011-19521 Filed 8-1-11; 8:45 am]

BILLING CODE 6712-01-P